DEPARTMENT OF ENERGY

Federal Energy Regulatory Commission

[Docket No. AD24-9-000]

Notice of Staff-Led Workshop; Innovations and Efficiencies in Generator Interconnection

Take notice, pursuant to 18 CFR 2.1(a), that the Federal Energy Regulatory Commission (Commission) will convene a staff-led workshop in the above-referenced proceeding. The purpose of this workshop is to provide a public forum for the presentation and discussion of opportunities for further innovation and increased efficiency in the generator interconnection process.

The workshop will be held on Tuesday, September 10, 2024 and Wednesday, September 11, 2024 from approximately 9:00 a.m. to 5:00 p.m. Eastern time. The workshop will be held in the Commission Meeting Room at Commission headquarters, 888 First Street, NE, Washington, DC 20426.

The workshop will be open to the public. Advance registration is not required, and there is no fee for attendance. A supplemental notice will be issued with further details regarding the workshop agenda, as well as any changes in timing or logistics. Information will also be posted on the Calendar of Events on the Commission's website, www.ferc.gov, prior to the event.

The workshop will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission workshops are accessible under section 508 of the Rehabilitation Act of 1973. For accessibility accommodations, please send an email to accessibility@ferc.gov or call toll free 1-866-208-3372 (voice) or 202-208-8659 (TTY) or send a fax to 202-208-2106 with the required accommodations.

For more information about this workshop, please contact Michael G. Henry at Michael.Henry@ferc.gov or 202-502-8583. For legal information, please contact Lewis Taylor at Lewis.Taylor@ferc.gov or 202-502-8624.

Dated: May 13, 2024.
Debbie-Anne A. Reese,
Acting Secretary.

[FR Doc. 2024-10882 Filed 5-21-24; 8:45 am]

BILLING CODE 6717-01-P